DEPARTMENT OF AGRICULTURE

Rural Housing Service

Rural Business-Cooperative Service

Rural Utilities Service

Notice of Funds Availability Under the Consolidated Security, Disaster Assistance, and Continuing Appropriations Act, 2009

AGENCIES: Rural Housing Service, Rural Business-Cooperative Service, and Rural Utilities Service, USDA.

ACTION: Notice.

SUMMARY: The Rural Housing Service (RHS), Rural Business-Cooperative Service (RBS), and Rural Utilities Service (RUS) are administered through USDA Rural Development (RD). This Notice announces the availability of disaster assistance pursuant to Chapter 1 of Title I of Division B of the Consolidated Security, Disaster Assistance, and Continuing Appropriations Act 2009 (Pub. L. 110-329) (September 30, 2008).

DATES: Unless otherwise specified in this Notice, applications will be accepted on a rolling basis.

ADDRESSES: Entities wishing to apply for assistance, or that are in need of further information, should contact the USDA Rural Development State Office in the state where the project is located. A list of the USDA Rural Development State Offices addresses and telephone numbers are as follows:

Note: Telephone numbers are not toll-free.

Alabama

Sterling Centre, Suite 601, 4121 Carmichael Road, Montgomery, AL 36106-3683, (334) 279-3400/TDD (334) 279-3495.

Alaska

USDA Rural Development State Office, 800 West Evergreen, Suite 201, Palmer, AK 99645-6539, (907) 761-7705/TDD (907) 761-8905.

Arizona

USDA Rural Development State Office, 230 N. 1st Ave., Suite 206, Phoenix, AZ 85003, (602) 280-8701/TDD (602) 280-8705.

Arkansas

USDA Rural Development State Office, 700 West Capitol Avenue, Room 3416, Little Rock, AR 72201-3225, (501) 301-3200/TDD (501) 301-3279.

California

USDA Rural Development State Office, 430 G Street, # 4169, Davis, CA 95616-4169, (530) 792-5800/TDD (530) 792-5848.

Colorado

USDA Rural Development State Office, 655 Parfet Street, Room E-100, Lakewood, CO 80215, (720) 544-2903/TDD (720) 544-2976.

Connecticut

USDA Rural Development State Office, 451 West Street, Suite 2, Amherst, MA 01002-2999, (413) 253-4300/TDD (413) 253-4590.

Delaware-Maryland

USDA Rural Development State Office, 1221 College Park Drive, Suite 200, Dover, DE 19904, (302) 857-3580/TDD (302) 857-3585.

Florida

USDA Rural Development State Office, 4440 NW 25th Place, P.O. Box 147010, Gainesville, FL 32614-7010, (352) 338-3400/TDD (352) 338-3499.

Georgia

USDA Rural Development State Office, Stephens Federal Building, 355 E. Hancock Avenue, Athens, GA 30601-2768, (706) 546-2162/TDD (706) 546-2034.

Hawaii

USDA Rural Development State Office, Federal Building, Room 311, 154 Waianuenue Avenue, Hilo, HI 96720, (808) 933-8380/TDD (808) 933-8321.

Idaho

USDA Rural Development State Office, 9173 West Barnes Dr., Suite A1, Boise, ID 83709, (208) 378-5600/TDD (208) 378-5644.

Illinois

USDA Rural Development State Office, 2118 West Park Court, Suite A, Champaign, IL 61821, (217) 403-6200/TDD (217) 403-6240.

Indiana

USDA Rural Development State Office, 5975 Lakeside Boulevard, Indianapolis, IN 46278, (317) 290-3100/TDD (317) 290-3343.

Iowa

USDA Rural Development State Office, Federal Building, Room 873, 210 Walnut Street, Des Moines, IA 50309, (515) 284-4663/TDD (515) 284-4858.

Kansas

USDA Rural Development State Office, 1303 S.W. First American Place, Suite 100, Topeka, KS 66604-4040, (785) 271-2700/TDD (785) 271-2767.

Kentucky

USDA Rural Development State Office, 771 Corporate Drive, Suite 200, Lexington, KY 40503, (859) 224-7300/TDD (859) 224-7422.

Louisiana

USDA Rural Development State Office, 3727 Government Street, Alexandria, LA 71302, (318) 473-7921/TDD (318) 473-7655.

Maine

USDA Rural Development State Office, 967 Illinois Avenue, Suite 4, P.O. Box 405, Bangor, ME 04402-0405, (207) 990-9160/TDD (207) 942-7331.

Massachusetts

USDA Rural Development State Office, 451 West Street, Suite 2, Amherst, MA 01002-2999, (413) 253-4300/TDD (413) 253-4590.

Michigan

USDA Rural Development State Office, 3001 Coolidge Road, Suite 200, East Lansing, MI 48823, (517) 324-5190/TDD (517) 324-5169.

Minnesota

USDA Rural Development State Office, 375 Jackson Street, Suite 410, St. Paul, MN 55101-1853, (651) 602-7800/TDD (651) 602-3799.

Mississippi

USDA Rural Development State Office, Federal Building, Suite 831, 100 W. Capitol Street, Jackson, MS 39269, (601) 965-4316/TDD (601) 965-5850.

Missouri

USDA Rural Development State Office, 601 Business Loop 70 West, Parkade Center, Suite 235, Columbia, MO 65203, (573) 876-0976/TDD (573) 876-9480.

Montana

USDA Rural Development State Office, 900 Technology Boulevard, Suite B, P.O. Box 850, Bozeman, MT 59771, (406) 585-2580/TDD (406) 585-2562.

Nebraska

USDA Rural Development State Office, Federal Building, Room 152, 100 Centennial Mall North, Lincoln, NE 68508, (402) 437-5551/TDD (402) 437-5093.

Nevada

USDA Rural Development State Office, 1390 South Curry Street, Carson City, NV 89703-5146, (775) 887-1222/TDD (775) 885-0633.

New Hampshire

USDA Rural Development State Office, City Center, 3rd Floor, 89 Main Street, Montpelier, VT 05602, (802) 828-6000/TDD (802) 223-6365.

New Jersey

USDA Rural Development State Office, 8000 Midlantic Drive, 5th Floor North, Suite 500, Mt. Laurel, NJ 08054, (856) 787-7700/TDD (856) 787-7784.

New Mexico

USDA Rural Development State Office, 6200 Jefferson Street, NE, Room 255, Albuquerque, NM 87109, (505) 761-4950/TDD (505) 761-4938.

New York

USDA Rural Development State Office, The Galleries of Syracuse, 441 South Salina Street, Suite 357, Syracuse, NY 13202-2541, (315) 477-6400/TDD (315) 477-6447.

North Carolina

USDA Rural Development State Office, 4405 Bland Road, Suite 260, Raleigh, NC 27609, (919) 873-2000/TDD (919) 873-2003.

North Dakota

USDA Rural Development State Office, Federal Building, Room 208, 220 East Rosser, P.O. Box 1737, Bismarck, ND 58502-1737, (701) 530-2037/TDD (701) 530-2113.

Ohio

USDA Rural Development State Office, Federal Building, Room 507, 200 North High Street, Columbus, OH 43215-2418, (614) 255-2400/TDD (614) 255-2554.

Oklahoma

USDA Rural Development State Office, 100 USDA, Suite 108, Stillwater, OK 74074-2654, (405) 742-1000/TDD (405) 742-1007.

Oregon

USDA Rural Development State Office, 1201 NE Lloyd Blvd., Suite 801, Portland, OR 97232, (503) 414-3300/TDD (503) 414-3387.

Pennsylvania

USDA Rural Development State Office, One Credit Union Place, Suite 330, Harrisburg, PA 17110-2996, (717) 237-2299/TDD (717) 237-2261.

Puerto Rico

USDA Rural Development State Office, IBM Building, Suite 601, 654 Munos Rivera Avenue, San Juan, PR 00918-6106, (787) 766-5095/TDD (787) 766-5332.

Rhode Island

USDA Rural Development State Office, 451 West Street, Suite 2, Amherst, MA 01002-2999, (413) 253-4300/TDD (413) 253-4590.

South Carolina

USDA Rural Development State Office, Strom Thurmond Federal Building, 1835 Assembly Street, Room 1007, Columbia, SC 29201, (803) 765-5163/TDD (803) 765-5697.

South Dakota

USDA Rural Development State Office, Federal Building, Room 210, 200 Fourth Street, SW., Huron, SD 57350, (605) 352-1100/TDD (605) 352-1147.

Tennessee

USDA Rural Development State Office, 3322 West End Avenue, Suite 300, Nashville, TN 37203-1084, (615) 783-1300.

Texas

USDA Rural Development State Office, Federal Building, Suite 102, 101 South Main, Temple, TX 76501, (254) 742-9700/TDD (254) 742-9712.

Utah

USDA Rural Development State Office, Wallace F. Bennett Federal Building, 125 South State Street, Room 4311, Salt Lake City, UT 84138, (801) 524-4320/TDD (801) 524-3309.

Vermont

USDA Rural Development State Office, City Center, 3rd Floor, 89 Main Street, Montpelier, VT 05602, (802) 828-6000/TDD (802) 223-6365.

Virginia

USDA Rural Development State Office, 1606 Santa Rosa Road, Suite 238, Richmond, VA 23229-5014, (804) 287-1550/TDD (804) 287-1753.

Washington

USDA Rural Development State Office, 1835 Black Lake Boulevard SW., Suite B, Olympia, WA 98512-5715, (360) 704-7740/TDD (360) 704-7760.

Virgin Islands

USDA Rural Development State Office, 4440 NW 25th Place, P.O. Box 147010, Gainesville, FL 32614-7010, (352) 338-3400/TDD (352) 338-3499.

West Virginia

USDA Rural Development State Office, 75 High Street, Room 320, Morgantown, WV 26505-7500, (304) 284-4860/TDD (304) 284-4836.

Wisconsin

USDA Rural Development State Office, 4949 Kirschling Court, Stevens Point, WI 54481, (715) 345-7600/TDD (715) 345-7614.

Wyoming

USDA Rural Development State Office, 100 East B, Federal Building, Room 1005, P.O. Box 11005, Casper, WY 82602-5006, (307) 233-6700/TDD (307) 233-6733.

FOR FURTHER INFORMATION CONTACT: For information and application assistance contact the appropriate Rural Development State Office listed in the ADDRESSES section of this Notice.

For information regarding Housing and Community Facilities Programs, contact: Community Facilities, Anita Outen, Loan Specialist, at 202-720-1497, or Susan Woolard, Loan Specialist, at 202-720-1506; Multi-Family Housing Programs, Henry Searcy, Financial and Loan Specialist, at 202-720-1753; Single Family program, Myron Wooden, Loan Specialist, at 202-720-4780.

For further information regarding Business Programs, contact: Fred Kieferle, Business and Industry (B&I) Guaranteed Loan Program, at 202-720-7818, e-mail: fred.kieferle@wdc.usda.gov, Cindy Mason, Rural Business Enterprise Grant (RBEG), at 202-690-1433, e-mail: cindy.mason@wdc.usda.gov.

For information regarding Water and Environmental Programs' Direct Loan, Guaranteed Loan, and Grant programs, contact: Gayle Auman, Loan Specialist, at 334-279-3620, e-mail: gayle.auman@wdc.usda.gov.

SUPPLEMENTARY INFORMATION:

Background: The Rural Development Mission Area agencies (RHS, RUS, and RBS of the United States Department of Agriculture) provide a wide variety of grant, loan, and loan guarantee assistance to rural residents, rural communities, and rural utility systems. The eligibility criteria for each of the programs differ widely.

Paperwork Reduction Act: In accordance with the Paperwork Reduction Act of 1995, the information collection requirements contained in this Notice are approved by the Office of Management and Budget (OMB) under OMB Control Numbers 0575-0172, 0575-0173, 0570-0174, 0575-0189, 0570-0017, 0570-0022, and 0570-0121.

Application Procedure: Unless otherwise specified in this Notice, the application procedure for assistance under this Notice is the same as the regular application procedure for the particular program for which financial assistance is requested.

I. Disaster Assistance Funds

A. Affected Programs

The following programs are subject to the provisions of Executive Order 12372 which requires intergovernmental consultation with State and local officials, pursuant to 7 CFR 3015.302, as a covered program. These programs or activities are listed in the Catalog of Federal Domestic Assistance (CFDA) under Numbers:

10.438 Section 538 Guaranteed Multi-family Housing Loans

10.447 Multi-family Revitalization

10.448 Rural Housing Voucher Program

10.766 Community Facilities Loans and Grants

10.410 Very Low to Moderate Income Housing Loans

10.768 Business and Industry

10.769 Rural Business Enterprise Grants

10.760 Water and Waste Direct Loans

B. Description of Assistance

Chapter 1 of Title I of Division B of the Consolidated Security, Disaster Assistance, and Continuing Appropriations Act, 2009, (the “Act”) Public Law 110-329 enables USDA Rural Development to provide: (1) $150 million for the cost of assistance to areas affected by hurricanes, floods, and natural disasters occurring in calendar year 2008 that have been declared a major disaster by the President under Title IV of the Robert T. Stafford Disaster Relief and Emergency Assistance Act of 1974, 42 U.S.C. 5121, et seq., and (2) $38 million for single and multi-family housing assistance to areas affected by hurricanes Katrina and Rita. Pursuant to section 10101(c) of the Act, the Secretary of Agriculture may waive any limits on population, income, or cost-sharing otherwise applicable to a project or activity. To the extent the Secretary has authorized such waiver(s) with respect to funds for a program covered by this NOFA, such waiver is indicated in connection with each program area of this NOFA.

C. Designated Disaster Area

For the purposes of this Notice, the designated disaster area shall be those areas affected by hurricanes, floods, and other natural disasters occurring during calendar year 2008 for which a disaster was declared by the President under Title IV of the Robert T. Stafford Disaster Relief and Emergency Assistance Act of 1974, 42 U.S.C. 5121, et seq. (Stafford Act) and areas affected by hurricanes Katrina and Rita.

Projects located in the identified counties on the Federal Emergency Management Agency (FEMA) map for these disasters will be eligible for funding. The FEMA Web site, http://www.fema.gov, lists Major and Emergency Disaster Declarations by year and by State. All of these disaster areas were declared by the President or the Secretary of Agriculture, but only Major Disaster Declarations (i.e., those declared by the President) are eligible for the funds covered by this NOFA. Individual and public assistance may be provided in eligible areas.

1. Community Facilities (CF) Programs

USDA Rural Development will provide CF Direct Loan funds, CF Guaranteed Loan funds and CF Grant funds for essential community facilities in rural areas affected by hurricanes, floods, and other natural disasters which occurred during calendar year 2008 as follows:

CF Direct Loan Funds: $169,580,420

CF Guaranteed Loan Funds: $157,467,532

CF Grant Funds: $24,250,000

The CF Guaranteed and Direct Loan and Grant Programs are designed to finance and facilitate the development of essential community facilities serving rural areas. These facilities include, but are not limited to, hospitals, medical clinics, elderly care facilities, police stations and vehicles, fire and rescue stations and vehicles, vocational and medical rehabilitation centers, and educational facilities. Funds under this Notice can be used to construct, enlarge, or improve community facilities for health, public safety, and education. This may include the purchase of equipment or furnishings required for a facility's operation.

Waiver. CF Grants can be made without regard to graduated funding or matching funds requirements. CF Grant funds can be used for up to 75 percent of the cost to develop the facility.

General Provisions. The Act enables the Secretary of Agriculture to make grants to recipients that may have challenges in making loan payments. Rural Development has determined that it will review and make awards under this NOFA as applications are received. Applications will be reviewed, approved, and obligated in the State Rural Development Office.

Eligibility Requirements. Public entities such as municipalities, counties, and special-purpose districts, as well as nonprofit corporations, including Faith-based and neighborhood organizations, and federally-recognized tribal governments in designated disaster areas with a population of 20,000 or less are eligible to apply.

Priority. Priority will be provided in accordance with established program priorities and performance measures. The applicant's financial statements will be analyzed by Rural Development staff to determine the percentage of guaranteed loan funds, direct loans, and grant funds required for project feasibility.

Applicable Statutory or Regulatory Authority. Consolidated Farm and Rural Development Act, Section 306 (7 U.S.C. 1926(a) (1) and (19)); and, to the extent not waived by this Notice, 7 CFR Part 3570, Subpart B, Community Facilities Grant Program, 7 CFR Part 3575, Subpart A, Community Facilities Guaranteed Loan Program; 7 CFR Part 1942, Subpart A, Community Facilities Direct Loan Program; and 7 CFR Part 1942, Subpart C, Fire and Rescue Loans.

2. Single Family Housing Programs

General. USDA Rural Development will provide SFH program funds in rural areas affected by hurricanes, floods, and other natural disasters occurring during calendar years 2008 and areas affected by hurricanes Katrina and Rita.

This Notice provides SFH disaster allocations for FY 2009. Allocation computations have been made in accordance with 7 CFR 1940.563 through 1940.568.

Disaster Act Authorization. The Disaster Act authorizes SFH to provide grants, loans and loan guarantees to eligible applicants in rural areas affected by hurricanes, floods and other natural disasters occurring during 2008 for which the President has declared a major disaster under title IV of the Robert. T. Stafford Disaster Relief and Emergency Assistance Act of 1974 and areas affected by hurricanes Katrina and Rita.

Funding is available as follows:

Disaster Funds

(1) Section 502 SFH Direct Loans

Hurricanes Supplemental (Katrina/Rita): $116,025,531

2008 Disaster Emergency Supplemental: $433,035,714

(2) Section 504 Direct Housing Repair Loans

Section 504 Housing Repair Loans 2005 Hurricanes: $504,329

(3) Section 504 Grants

Section 504 Housing Repair Grants 2005 Hurricanes: $15,152,777

Section 504 Housing Repair Grants 2008 Disaster: $4,850,000

(4) Section 502 Guaranteed Loans (Nonsubsidized)

Section 502 Guaranteed Purchase 2005 Disaster Loans (Nonsubsidized)

Purchase—Amount Available for 2005 Disaster Allocation

Total Available—Purchase: $1,278,411,582

Less National Office General Reserve: $240,179,009

Allocation to the States: $1,038,232,573

General Reserve. The National Office will maintain a general reserve. These funds will be available to states that exhaust their allocations.

Section 502 Guaranteed Purchase 2008 Disaster Loans (Nonsubsidized)

Purchase—Amount Available for 2008 Disaster Allocation

Total Available—Purchase: $1,069,291,339

Less National Office General Reserve: $534,646,340

Allocation to the States: $534,644,999

Applicable Statutory or Regulatory Authority

• The Housing Act of 1949 as amended.

• RD Instruction 1980-D (Guaranteed).

• 7 CFR Part 3550 (Direct).

• 7 CFR 1940.563 through 1940.568

Further Information. All SFH programs are administered through field offices. For more information or to make application, please contact the Rural Development office servicing your area as listed in the ADDRESSES section of this Notice.

3. Multi-Family Housing (MFH) Program

MFH Program funding will be available to build or repair projects located in designated disaster areas or protect tenants in projects in designated disaster areas that leave the Section 515 program through prepayment or foreclosure. Initial MFH loan and grant disaster funding levels for FY 2009 expressed as budget authority are as follows:

Section 515 Direct Loans: $747,911

MFH Revitalization (MPR)—Budget Authority: $5,820,000

Section 538 Guaranteed MFH: $12,372,449

Rural Housing Vouchers: $1,940,000

Budget authority funding levels may be adjusted depending on demand for funding in each of the MFH program areas. All funds will be held in the National Office and will be distributed either using the application selection processes under applicable FY 2009 funding notices, or through the Administrator's direction. The applicable notices include the Notice of Funding Availability for the Section 515 Rural Rental Housing Program for New Construction in Fiscal Year 2009, published on April 29, 2009, the Notice of Solicitation of Applications: Section 514, 515 and 516 Multi-Family Housing Revitalization Demonstration Program (MPR) for Fiscal Year 2009 [74 FR 19505], published on April 29, 2009 [74 FR 19513]; the Notice of Funding Availability: Rural Development Voucher Program, published on April 29, 2009 [74 FR 19510] and the Notice for the Request for Proposals for Loan Guarantees under the Section 538 Guaranteed Rural Rental Housing Program (GRHHP) for Fiscal Year 2009, published on January 21, 2009 [74 FR 3551].

A complete description of each of the Multi-Family Housing Programs, which includes general provisions, assistance available, eligibility requirements, and selection criteria is available in the FY 2009 funding notices identified above.

Dates. Applications for MPR and Section 515 new construction are due by June 29, 2009.

Applicable Statutory or Regulatory Authority. Sections 514, 515, 516, and 538 multi-family housing programs are authorized by the Housing Act of 1949, as amended (42 U.S.C. Sec.1484, 1485, 1486, 1490p-2) and provide Rural Development with the authority to make loans for low-income multi-family housing and farm labor housing and related facilities. The Agriculture, Rural Development, Food and Drug Administration, and Related Agencies Appropriations Act, 2008 (Pub. L. 110-161), December 26, 2007, the Consolidated Security Disaster Assistance and Continuing Appropriations Act, 2009 (Pub. L. 110-329) (September 30, 2008). The Rural Development Voucher Program is authorized under Section 542 of the Housing Act of 1949, as amended (without regard to Section 542 (b)).

4. Business and Industry (B&I) Guaranteed Loan Program

USDA Rural Development will provide B&I Guaranteed Loan funds to assist businesses in rural areas affected by hurricanes, floods, and other natural disasters occurring during calendar year 2008 as follows:

B&I Guaranteed Loan Funds 2008 Disasters: $445,977,011

B&I Guaranteed Loan Program is to improve, develop, or finance business, industry, and employment and improve the economic and environmental climate in rural communities. This purpose is achieved by bolstering the existing private credit structure through the guarantee of quality loans which will provide lasting community benefits.

Eligibility Requirements. A borrower may be a cooperative organization, corporation, partnership, or other legal entity organized and operated on a profit or nonprofit basis; an Indian tribe on a Federal or State reservation or other federally recognized tribal group; a public body; or an individual. B&I loans are normally available in rural areas, which include all areas other than cities or towns of more than 50,000 people and the contiguous and adjacent urbanized area of such cities or towns.

Loan purposes must be consistent with the general purpose contained in the regulation, and include business acquisition; the purchase and/or development of land, buildings, leasehold improvements; purchase of machinery, equipment; supplies, and inventory; and debt refinancing.

The total amount of Agency loans to one borrower generally must not exceed $25 million. Loans up to $40 million may be authorized for rural cooperative organizations that process value-added agricultural commodities. The interest rate for the guaranteed loan will be negotiated between the lender and the applicant. Collateral must have documented value sufficient to protect the interest of the lender and the Agency.

Priority. Funds are available on a first-come-first-served basis.

Applicable Statutory or Regulatory Authority.

• Consolidated Farm and Rural Development Act, Section 310B (7 U.S.C. 1932)

• 7 CFR Part 4279, Subparts A and B

• Part 4287, Subpart B. Business and Industry Guaranteed Loan Program.

5. Rural Business Enterprise Grant (RBEG) Program

USDA Rural Development will provide disaster designated RBEG grant funds for rural disaster recovery projects that finance and facilitate development of small and emerging rural businesses help fund distance learning networks, and help fund employment related adult education programs in rural areas affected by hurricanes, floods, and other natural disasters occurring during calendar year 2008 as follow:

RBEG 2008 disaster funds: $4,850,000

To assist with business development, RBEGs may fund a broad array of activities, and may include acquisition, development, and/or renovation of real estate; purchase of machinery and equipment; capitalization of revolving loan funds; training; and technical assistance. Eligible activities are delineated in 7 CFR 1942-G.

Eligibility Requirements. Applicants eligible for RBEG funds are public bodies and private non-profit corporations serving rural areas. States, counties, cities, townships, and incorporated towns and villages, boroughs, authorities, districts, including Faith-based and neighborhood organizations and private non-profit corporations, and Indian tribes on Federal and state reservations which will serve rural areas. “Rural area” for this program is defined as all areas other than cities or towns of more than 50,000 people and the contiguous and adjacent urbanized area of such cities or towns. Applications will not be considered for funding if they do not provide sufficient information to determine eligibility or are missing required elements.

Priority. There is no maximum level of grant funding, but smaller projects are given higher priority.

Applicable Statutory or Regulatory Authority.

• Consolidated Farm and Rural Development Act, Sec. 310B(c) (7 U.S.C. 1932(c)(2))

• 7 CFR Part 1942, Subpart G, Rural Business Enterprise Grant Program

6. Water and Waste Loans and Grants

General. USDA Rural Development's Water and Environmental Programs (WEP) provide a wide variety of grant, loan and loan guarantee assistance to rural residents, communities and utility systems. Details on eligible applicants and projects may be found in the relevant regulations listed in the “Applicable Statutory and Regulatory Authority” section below.

Disaster Act Authorization. The Disaster Act authorizes WEP to provide grants and loans to eligible applicants in rural areas affected by hurricanes, floods and other natural disasters occurring during 2008 for which the President has declared a major disaster under Title IV of the Robert. T. Stafford Disaster Relief and Emergency Assistance Act of 1974. Funding is available as follows:

Water and Waste Funds

2008 Disasters loan funds: $49,589,603

2008 Disasters grant funds: $15,000,000

Emergency Community Water Assistance Grants: $2,000,000

Waiver(s) Pursuant to Section 10101(c) of the Disaster Act. None.

Applicable Statutory or Regulatory Authority.

• Consolidated Farm and Rural Development Act, Section 306 (7 U.S.C. 1926(a)(1), (2), and (24)) and Section 306A (7 U.S.C. 1926a).

• 7 CFR Part 1778, Emergency and Imminent Community Water Assistance Grants.

• 7 CFR 1779, Water and Waste Disposal Programs Guaranteed Loans. (An Interim Rule, 7 CFR 5001, has been published in the Federal Register, but is not effective as of the date of this Notice).

• 7 CFR 1780, Water and Waste Loans and Grants.

Further Information. Information for the Water and Environmental Programs' Direct Loan and Grant programs may be obtained by contacting your USDA Rural Development State Office as listed in the ADDRESSES section of this Notice.

Civil Rights

Programs referenced in this Notice are subject to applicable Civil Rights Laws. These laws include the Equal Credit Opportunity Act, Title VI of the Civil Rights Act of 1964, Title VIII of the Civil Rights Act of 1968, as amended in 1988, Section 504 of the Rehabilitation Act of 1973, and the Age Discrimination Act of 1975.

Non-Discrimination Statement

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), or (202) 720-6382 (TDD). “USDA is an equal opportunity provider, employer, and lender.”

Dated: May 29, 2009.
Dallas Tonsager,
Under Secretary.

[FR Doc. E9-14953 Filed 6-24-09; 8:45 am]

BILLING CODE 3410-XY-P